DEPARTMENT OF ENERGY

Federal Energy Regulatory Commission

Combined Notice of Filings No. 1

Monday, July 6, 2009.

Take notice that the Commission has received the following Natural Gas Pipeline Rate and Refund Report filings:

Docket Numbers: RP96-200-217.

Applicants: CenterPoint Energy Gas Transmission Comp.

Description: CenterPoint Energy Gas Transmission Company, submits a negotiated rate agreements with Texas Eastern Transmission, LP.

Filed Date: 06/30/2009.

Accession Number: 20090701-0162.

Comment Date: 5 p.m. Eastern Time on Monday, July 13, 2009.

Docket Numbers: RP96-200-218.

Applicants: CenterPoint Energy Gas Transmission Co.

Description: CenterPoint Energy Gas Transmission Company submits two negotiated rate agreement with Laclede Energy Resources, Inc.

Filed Date: 07/01/2009.

Accession Number: 20090702-0113.

Comment Date: 5 p.m. Eastern Time on Monday, July 13, 2009.

Docket Numbers: RP96-200-219.

Applicants: CenterPoint Energy Gas Transmission Co.

Description: CenterPoint Energy Gas Transmission Company submits an amended negotiated rate agreements with Laclede Energy Resources, Inc.

Filed Date: 07/01/2009.

Accession Number: 20090702-0112.

Comment Date: 5 p.m. Eastern Time on Monday, July 13, 2009.

Docket Numbers: RP96-200-220.

Applicants: CenterPoint Energy Gas Transmission Co.

Description: CenterPoint Energy Gas Transmission Company submits two amended negotiated rate agreement with Petrohawk Energy Corporation.

Filed Date: 07/01/2009.

Accession Number: 20090702-0111.

Comment Date: 5 p.m. Eastern Time on Monday, July 13, 2009.

Docket Numbers: RP96-200-221.

Applicants: CenterPoint Energy Gas Transmission Co.

Description: CenterPoint Energy Gas Transmission Company submits a negotiated rate agreement with Eagle Energy Partners I, LP, to be effective 7/1/09.

Filed Date: 07/01/2009.

Accession Number: 20090702-0110.

Comment Date: 5 p.m. Eastern Time on Monday, July 13, 2009.

Docket Numbers: RP96-200-222.

Applicants: CenterPoint Energy Gas Transmission Co.

Description: CenterPoint Energy Gas Transmission Company submits an amended negotiated rate agreement with Chesapeake Energy Marketing, Inc, to be effective 7/1/09.

Filed Date: 07/01/2009.

Accession Number: 20090702-0109.

Comment Date: 5 p.m. Eastern Time on Monday, July 13, 2009.

Docket Numbers: RP96-200-223.

Applicants: CenterPoint Energy Gas Transmission Co.

Description: CenterPoint Energy Gas Transmission Company submits an amended negotiated rate agreement with Chesapeake Energy Marketing, Inc.

Filed Date: 07/01/2009.

Accession Number: 20090702-0108.

Comment Date: 5 p.m. Eastern Time on Monday, July 13, 2009.

Docket Numbers: RP96-320-110.

Applicants: Gulf South Pipeline Company, LP.

Description: Gulf South Pipeline Company, LP submits amendments to negotiated rate letter agreements executed by Gulf South and certain of its customers in relation to the East Texas to Mississippi Expansion Project etc.

Filed Date: 07/01/2009.

Accession Number: 20090702-0088.

Comment Date: 5 p.m. Eastern Time on Monday, July 13, 2009.

Docket Numbers: RP99-301-239.

Applicants: ANR Pipeline Company.

Description: ANR Pipeline Company submits amendment to one Rate Schedule FTS-3 negotiated rate agreement between ANR and Wisconsin Power & Light Co.

Filed Date: 07/01/2009.

Accession Number: 20090702-0087.

Comment Date: 5 p.m. Eastern Time on Monday, July 13, 2009.

Docket Numbers: RP99-301-240.

Applicants: ANR Pipeline Company.

Description: ANR Pipeline Company submits for filing and acceptance 1 Rate Schedule ETS negotiated rate service agreement with Wisconsin Power & Light Co (Contract 115957).

Filed Date: 07/01/2009.

Accession Number: 20090702-0099.

Comment Date: 5 p.m. Eastern Time on Monday, July 13, 2009.

Docket Numbers: RP00-426-049.

Applicants: Texas Gas Transmission, LLC.

Description: Texas Gas Transmission, LLC submits First Revised Sheet 82 et al. to FERC Gas Tariff, Third Revised Volume 1.

Filed Date: 06/30/2009.

Accession Number: 20090701-0068.

Comment Date: 5 p.m. Eastern Time on Monday, July 13, 2009.

Docket Numbers: RP09-61-007.

Applicants: Gulf Crossing Pipeline Company LLC.

Description: Gulf Crossing Pipeline Company LLC submits amendments to interim negotiated rate agreements executed by Gulf Crossing and certain of its customer in relation to the Gulf Crossing Project.

Filed Date: 07/01/2009.

Accession Number: 20090702-0089.

Comment Date: 5 p.m. Eastern Time on Monday, July 13, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-16760 Filed 7-14-09; 8:45 am]

BILLING CODE 6717-01-P